DEPARTMENT OF LABOR

Employment and Training Administration

Investigations Regarding Certifications of Eligibility to Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the worker are eligible to apply for adjustment assistance under Title II, Chapter 2, of the Act. The investigations will further relate, as appropriate, to the date on which total or partial separations began or threatened to begin and the subdivision of the firm involved.

The petitioners or any other persons showing a substantial interest in the subject matter of the investigations may request a public hearing, provided such request is filed in writing with the Director, Division of Trade Adjustment Assistance, at the address shown below, not later than July 1, 2002.

Interested persons are invited to submit written comments regarding the subject matter of the investigations to the Director, Division of Trade Adjustment Assistance, at the address shown below, not later than July 1, 2002.

The petitions filed in this case are available for inspection at the Office of the Director, Division of Trade Adjustment Assistance, Employment and Training Administration, U.S. Department of Labor, Room C-5311, 200 Constitution Avenue, NW., Washington, DC 20210.

Signed at Washington, DC this 6th day of May, 2002.
Edward A. Tomchick,
Director, Division of Trade Adjustment Assistance.

Appendix

Petitions Institutions on 05/06/2002
TA-W | Subject Firm (petitioners) | Locations | Date of petition | Product(s)
41,465 | Energy Convertors (Wkrs) | Dallas, PA | 02/07/2002 | Heating Elements.
41,466 | Execumold (Wkrs) | Erie, PA | 02/21/2002 | Plastic and Electrical Injection Molds.
41,467 | I.C. Isaacs and Co. (Co.) | New York, NY | 04/10/2002 | Clothing.
41,468 | Pacific Crest Lumber (Wkrs) | Winlock, WA | 04/05/2002 | Pallets.
41,469 | Telect (Co.) | Liberty Lake, WA | 04/16/2002 | Fiber Optic Patchcords.
41,470 | Milco Industries (Wkrs) | Bloomsburg, PA | 04/15/2002 | Undergarments, Night Gowns, PJs, Robes.
41,471 | Cummins, Inc. (Wkrs) | Fridley, MN | 04/08/2002 | Generator Sets, Switch Gear.
41,472 | Deeter and Tool (Wkrs) | Erie, PA | 03/28/2002 | Molds and Repair.
41,473 | Mount Vernon Mills (Co.) | Alto, GA | 04/12/2002 | Spin Yarn.
41,474 | Aerus Electrolux (Wkrs) | Bristol, VA | 04/02/2002 | Sidekicks.
41,475 | Ruger Equipment (Wkrs) | Uhrichsville, OH | 04/01/2002 | Hydraulic Load Lifting Equipment.
41,476 | Calvin Klein Jeanswear (UNITE) | New York, NY | 04/10/2002 | Jeanwear.
41,477 | Volex (Wkrs) | Dartmouth, MA | 04/04/2002 | Electrical Cable.
41,478 | Radiio Fequency (Wkrs) | Marlboro, NJ | 04/10/2002 | Various Communication Antennas.
41,479 | Textron Golf, Turf (UAW) | Racine, WI | 04/25/2002 | Lawn and Turf Care Products.
41,480 | Newell Mfg. (UAW) | Lowell, MI | 04/18/2002 | Metal Stampings for Auto & Truck.
41,481 | Siemens Energy (IBEW) | Bellefontaine, OH | 04/25/2002 | Electrical Boys and Switches.
41,482 | D. Hersh Neckwear (Wkrs) | Worcester, MA | 04/12/2002 | Neckties.
41,483 | Acorn Products (Wkrs) | Lewiston, ME | 04/16/2002 | Slippers, Socks, Footwear.
41,484 | Crossroad Knitting (Co.) | Claudville, VA | 04/16/2002 | Socks.
41,485 | Fold Pak Gulf States (PACE) | Newark, NY | 04/09/2002 | Packaging.
41,486 | Mirro Company (Wkrs) | Manitowoc, WI | 01/14/2002 | Cookware and Bakeware.
41,487 | Benchmark Ceramics (Wkrs) | Cheektowaoa, NY | 11/15/2002 | Thermo-Couple Sleeves, Heater Tubes.
41,488 | Terry Products (Co.) | Kannapolis, NC | 04/12/2002 | Infant Sleepware, Underware and Blankets.
41,489 | Goss and Deleeuw (Wkrs) | Kensington, CT | 04/25/2002 | Machine Tool.
41,490 | Dispatch Printing (Wkrs) | Erie, PA | 4/11/2002 | Printing Foil, Paper Sampling.
41,491 | Warner Mfg. (Co.) | Sacred Heart, MN | 10/26/2002 | Hand Paint and Wall Paper Tools.
41,492 | Keystone Tool & Machine (Wkrs) | Carlisle, PA | 04/16/2002 | Machine Parts.
41,493 | Sun Chemical Ink (Co.) | Linden, NJ | 04/05/2002 | Printing Inks, Concentrates, Extenders.
41,494 | Mantua Industreis (Wkrs) | Woodbury Hts., NJ | 04/12/2002 | Model Trains.
41,495 | Arkwight, Inc. (UNITE) | Fiskeville, RI | 04/15/2002 | Overhead Transparencies.
41,496 | Blactec USA (Wkrs) | Plano, TX | 04/16/2002 | Customer Service.
41,497 | Charm House (Wkrs) | Sumter, SC | 04/16/2002 | Bedroom Decor.
41,498 | Aalfs Manufacturing (Co). | Texarkana, AR | 01/29/2002 | Denim Jeans.
41,499 | Newell Rubber Maid (Co.) | Santa Monica, CA | 04/18/2002 | Rubberized Writing Untensils.
41,500 | Bombardier Aerospace (Wkrs) | Wichita, KS | 04/25/2002 | Engineering and Assemblies.
41,501 | Carolina Brands Foods (UFCW) | Holly, NC | 04/29/2002 | Pork, Hod, and Sliced Bacon.

[FR Doc. 02-15559 Filed 6-19-02; 8:45 am]

BILLING CODE 4510-30-M